DEPARTMENT OF DEFENSE

Department of the Air Force

[Docket ID: USAF-2016-HQ-0001]

Privacy Act of 1974; System of Records

AGENCY: Department of the Air Force, DoD.

ACTION: Notice to delete a System of Records.

SUMMARY: The Department of the Air Force is deleting a system of records notice in its existing inventory of record systems subject to the Privacy Act of 1974 (5 U.S.C. 552a), as amended. The system notice is F035 AFAPO A, entitled “Air Force Art Program”.

DATES: Comments will be accepted on or before February 22, 2016. The proposed action will be effective the day following the end of the comment period unless comments are received which result in a contrary determination.

ADDRESSES: You may submit comments, identified by docket number and title, by any of the following methods:

* Federal Rulemaking Portal: http://www.regulations.gov. Follow the instructions for submitting comments.

* Mail: Department of Defense, Office of the Deputy Chief Management Officer, Directorate of Oversight and Compliance, Regulatory and Audit Matters Office, 9010 Defense Pentagon, Washington, DC 20301-9010.

Instructions: All submissions received must include the agency name and docket number for this Federal Register document. The general policy for comments and other submissions from members of the public is to make these submissions available for public viewing on the Internet at http://www.regulations.gov as they are received without change, including any personal identifiers or contact information.

FOR FURTHER INFORMATION CONTACT: Ms. Bao-Anh V. Trinh, Department of the Air Air Force Privacy Act Office, Office of Warfighting Integration and Chief Information officer, ATTN: SAF/CIO A6, 1800 Air Force Pentagon, Washington, DC 20330-1800, or telephone: (703) 614-8500.

SUPPLEMENTARY INFORMATION: The Department of the Air Force systems of records notices subject to the Privacy Act of 1974 (5 U.S.C. 552a), as amended, have been published in the Federal Register and are available from the address in FOR FURTHER INFORMATION CONTACT.

The Department of the Air Force proposes to delete a system of records notices from its inventory of record systems subject to the Privacy Act of 1974 (5 U.S.C. 552a), as amended. The proposed deletions are not within the purview of subsection (r) of the Privacy Act of 1974 (5 U.S.C. 552a), as amended, which requires the submission of a new or altered system report.

Dated: January 15, 2016.
Aaron Siegel,
Alternate OSD Federal Register Liaison Officer, Department of Defense.

Deletion:

F035 AFAPO A

Air Force Art Program (August 23, 2004, 69 FR 51815)

Reason: The Air Force Art Program system of records notice, F035 AFAPO A, can be deleted. The records were no longer needed, and all records have been destroyed. The program no longer maintains sensitive personal information of the artists for travel purposes. DHRA 08 DoD, entitled Defense Travel System (March 24, 2010, 75 FR 14142) covers all travel. This system does not have an OMB control number associated with this collection.

[FR Doc. 2016-01212 Filed 1-21-16; 8:45 am]

BILLING CODE 5001-06-P